SOCIAL SECURITY ADMINISTRATION

Agency Information Collection Activities: Proposed Request and Comment Request

The Social Security Administration (SSA) publishes a list of information collection packages that will require clearance by the Office of Management and Budget (OMB) in compliance with Pub. L. 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA. Fax: 202-395-6974. E-mail address: OIRA_Submission@omb.eop.gov.

(SSA), Social Security Administration, DCFAM, Attn: Reports Clearance Officer, 1333 Annex Building, 6401 Security Blvd., Baltimore, MD 21235. Fax: 410-965-6400. E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. eData Registration/Account Modification—20 CFR 401.45—0960-NEW

Collection Background

Section 5 U.S.C. 552a, (e)(10) of the Privacy Act of 1974 requires agencies to establish appropriate administrative, technical, and physical safeguards to ensure the security and confidentiality of records. Also, Section (f)(2) & (3) requires agencies to establish requirements for identifying an individual who requests a record or information pertaining to that individual and to establish procedures for disclosure of personal information. SSA promulgated Privacy Act rules in the Code of Federal Regulations, Subpart B. Procedures for verifying identity are at 20 CFR 401.45.

Collection Description

The eData Services Web site allows various external organizations to submit files to a variety of SSA systems and in some cases receive return files. The users include State/local government agencies, other Federal agencies, and some nongovernmental business entities. The SSA systems that process data transferred via eData include, but are not limited to, systems responsible for disability processing and benefit determination or termination. The information collected on form SSA-118 (Government to Government Services Online Web site Registration Form) to register organizations is used exclusively to maintain the identity of the requester within eData. The requestor is already a known entity to a sponsor within SSA. The SSA sponsor completes the registration forms and the information is submitted to SSA's User Interface Team (UIT). Once this is completed, SSA provides the requestor with their new password, and conducts a walkthrough of the eData website as necessary. The organization also can make modifications to their online account (e.g., address change) by completing an online form, SSA-119 (Government to Government Service Online Web site Account Modification/Deletion Form).

Type of Request: Collection in use without OMB Control Number.

Collection instrument | Number of annual respondents | Frequency of response | Average burden per response (minutes) | Estimated annual burden hours
SSA-118 | 925 | 1 | 15 | 231
SSA-119 | 1,575 | 1 | 15 | 394
Totals | 2,500 |  |  | 625

2. Certificate of Election for Reduced Widow(er)'s Benefits—20 CFR, Subpart D, 404.335—0960-NEW

Section 202(q) of the Social Security Act provides for the authority to reduce benefits under certain conditions when elected by a beneficiary. However, reduced benefits are not payable to an already entitled spouse (or divorced spouse) who:

• Is at least age 62 and under full retirement age in the month of the number holder's death; and

• Is receiving both reduced spouse's (or divorced spouse's) benefits and either retirement or disability benefits in the month before the month of the number holder's death.

In order to elect reduced widow(er) benefits, a beneficiary must complete form SSA-4111. SSA uses the information collected on Form SSA-4111 to determine eligibility for and pay a qualified dually entitled widow(er) (or surviving divorced spouse) reduced benefits. The respondents are qualified dually entitled widow(er)s (or surviving divorced spouse) who elect to receive a reduced widow(er) benefit.

Type of Request: Collection in use without OMB Control Number.

Number of Respondents: 30,000.

Frequency of Response: 1.

Average Burden Per Response: 2 minutes.

Estimated Annual Burden: 1,000 hours.

3. Proof of Age Study—20 CFR 404.715—0960-NEW

Background

Through the information obtained from this study, the Agency hopes to obtain data that will allow benefit award processes to be streamlined in anticipation of the significant workload increases as the “baby boomers” (those persons born between 1946 and 1964) attain retirement age. The information collected will be used to determine the extent to which a claimant's allegation of date of birth agrees with the date of birth in SSA's records and to estimate the program costs associated with using alleged dates of birth as proof of age (POA) to adjudicate claims without obtaining birth certificates or other evidence of age or citizenship.

Collection of Information

SSA will mail up to 3,000 appointment letters to a random sample of number holders (NH) with the expectation of being able to arrange 2,000 one-time telephone interviews. (Some letters will be returned for no address or there will be no response from the NHs.)

Appointment letters will be sent to the NHs to explain the purpose of the study; request a phone number; and establish a convenient time to conduct the phone interview.

The phone interviewers will obtain an alleged date of birth, place of birth, and parent's names. If the NH's alleged date of birth agrees with the Numident date of birth, SSA will obtain POA (birth certificates if available) from the custodians to determine the impact of using the alleged date as POA. If the alleged date of birth is materially different than the date of birth on the Numident, POA evidence will not be obtained from the custodian. If a birth certificate is obtained a proof code will be annotated to the Numident to prevent unnecessary development if subsequently a claim is filed on the account. If the POA development establishes a different date of birth than the Numident/alleged date of birth, SSA will estimate the potential error dollars involved. Study data will be compiled and findings reported to SSA's Executive Staff.

Type of Request: New information collection.

Number of Respondents: 2,000.

Estimated Annual Burden: 1,334 hours.

Form name | Number of respondents | Frequency of response | Average burden per response (minutes) | Estimated annual burden (hours)
Appointment Letter and Response | 2,000 | 1 | 15 | 500
SSA-8510 (Authorization to the SSA to Obtain Personal Information) | 2,000 | 1 | 5 | 167
Phone Questionnaire | 2,000 | 1 | 20 | 667
Collection of POA Evidence from Record Custodian | ¹52 | ² | 15 | 490
Total | 6052 |  |  | 1,824
¹ 1960 total responses
² Varies.

II. The information collections listed below have been submitted to OMB for clearance. Your comments on the information collections would be most useful if received by OMB and SSA within 30 days from the date of this publication. You can obtain a copy of the OMB clearance packages by calling the SSA Reports Clearance Officer at 410-965-0454 or by writing to the address listed above.

1. SSI Monthly Wage Reporting System—20 CFR 416.701-732—0960-0715

Collection Background

SSI recipients are required to report changes in their income, resources and living arrangements that may affect eligibility or payment amount. Currently, SSI recipients report changes on Form SSA-8150, Reporting Events—SSI, or to an SSA teleservice representative through SSA's toll-free telephone number, or they visit their local Social Security office.

Wages have, historically, been the source of SSI's highest error rate largely due to non-reporting by beneficiaries, deemors, and representative payees. Failure to report changes in wages timely accounts for approximately $400 million in overpayments each year. Consequently, SSA is evaluating methods for increasing reporting. SSA has tested and determined that given an easily accessible automated format, individuals will increase compliance with reporting responsibilities. Increased timely reporting has resulted in a decrease in improper payments. One of the methods tested, described below, is the SSI Wage Reporting System.

Collection Description

Participants who need to report a change in monthly wages (Comment: There are other forms of earned income that the phone line does not support) will call SSA's toll-free telephone number to report the change. The participants will access SSA's system using knowledge-based authentication (providing name, SSN and date of birth). Participants will speak their report (voice recognition technology) and/or key in the information using the telephone key pad. This automated system will then directly update our records and issue receipts in compliance with Section 202 of the Social Security Protection Act of 2004.

We are requesting permanent authorization of the existing wage reporting system to continue providing an alternative, and more efficient, means by which beneficiaries, their representative payees, and deemors can report wages via a toll-free telephone number. We believe this permanent authorization is necessary to effectively implement national usage of the system and substantially increase the number of reports received via this collection method. Without permanent authorization, we are concerned that an interruption in reporting would prove detrimental to our earlier efforts to recruit and train reporters, would damage the current regularity of reporting, and would considerably mitigate SSA's potential to reduce improper payments resulting from erroneous, or deficient, wage reports. Respondents to this collection are SSI recipients, deemors and representative payees of recipients who agree to participate in the program.

Type of Request: Revision of OMB approval.

Number of Respondents: 50,000.

Frequency of Response: 12.

Average Burden Per Response: 4 minutes.

Estimated Annual Burden: 40,000 hours.

2. Cost Reimbursable Research Request—0960-NEW

Background

The Social Security Administration (SSA) is responsible for administering two cash benefit programs, notably the Old-Age, Survivors, and Disability Insurance (OASDI) and SSI programs. To carry out this task, SSA maintains a number of files with detailed information on individuals and their characteristics, such as demographics, employment, earnings, assets, disability diagnosis, location, and other information. While designed for SSA to carry out its administrative tasks, the data files offer great informational depth to researchers interested in SSA's programs and other research areas. As a result, SSA provides qualified researchers needing agency administrative data for a variety of projects.

SSA's data files are governed by strict confidentiality restrictions and are not publicly accessible. Therefore, SSA has charged the Office of Research, Evaluation, and Statistics (ORES) as the primary interface for researchers, either within SSA or outside of it, who seek access to SSA's program files. To safeguard the information and the public trust, ORES has established comprehensive unified application process procedures for obtaining program data for research use.

The Cost Reimbursable Research Request

To request SSA program data for research, the researcher must submit a completed research application for SSA's evaluation. In the application, the requesting researcher must provide required basic project information and describe the way in which the proposed project will further SSA's mission to promote the economic security of the nation's people through its administration of the OASDI programs, and/or the SSI program. Depending on the type of research data needed, the requesting researchers may be required to provide SSA with up to 14 prescribed project information elements to properly assess their data request.

Once the application is reviewed and approved by ORES, a Reimbursable Conditions of Use Agreement is signed with the requestor which outlines the conditions and safeguards agreed to for the research project data exchange. The requestor may use the data for research and statistical purposes only. This is a reimbursable service and SSA recovers all expenses incurred in providing this information. The respondents to this information collection are the qualified researchers that request SSA administrative data for a variety of projects. These applicants include but are not limited to Federal and State government agencies and/or their contractors, private entities, and colleges/universities.

Type of Request: Collection in use without OMB Control Number.

Number of Respondents: 15.

Frequency of Response: 1.

Average Burden per Response: 240 minutes.

Estimated Annual Burden: 60 hours.

The total average annual cost for all respondents to use this service is approximately $112,500 or an average of $7,500 to complete a single request. This cost projection is an estimate of SSA's administrative and systems costs to analyze and provide the requested research data. Since this is a reimbursable service, all associated costs are borne by the requesters.

3. Authorization To Release Medical Report to Physician—20 CFR 401.55 & 401.100—0960-NEW

If the claimant, his or her court appointed representative, or a parent of a minor child wants the consultative examination (CE) report sent to the claimant's treating physician, he or she will complete the information requested on Form SSA-91 and send it to SSA for processing. SSA will use the information collected to send the CE report to the authorized physician. Respondents are applicants for disability claims.

Type of Request: Collection in Use Without an OMB Number.

Number of Respondents: 7,922.

Frequency of Response: 1.

Average Burden Per Response: 5 minutes.

Estimated Annual Burden: 660 hours.

4. Claimant Travel Reimbursement Request—20 CFR 404.999a-d—0960-NEW

The claimants have the right to be reimbursed for their travel expenses to and from a consultative examination (CE). In order to be reimbursed, the claimants must submit an itemized list of what they spent to travel round trip to the CE. The SSA-104 is sent to the claimants with the CE appointment notice. If the claimants want to be reimbursed for their travel expenses, they must complete, sign and return the SSA-104 to SSA. SSA uses the information collected on this form to determine the amount of reimbursement. Respondents are applicants for disability claims.

Type of Request: Collection in Use without an OMB Number.

Number of Respondents: 11,092.

Frequency of Response: 1.

Average Burden Per Response: 10 minutes.

Estimated Annual Burden: 1,849 hours.

Dated: May 15, 2007.
Elizabeth A. Davidson,
Reports Clearance Officer, Social Security Administration.

[FR Doc. E7-9712 Filed 5-18-07; 8:45 am]

BILLING CODE 4191-02-P